DEPARTMENT OF DEFENSE

Office of the Secretary

[Docket ID DoD-2021-OS-0122]

Proposed Collection; Comment Request

AGENCY: The Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 22, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Police Records Check; DD Form 369; OMB Control Number 0704-0007.

Needs and Uses: Title 10, U.S. Code, Sections 504, 505 and 12102 establish minimal standards for enlistment into the Armed Forces. Among other items, these sections specifically prohibit the enlistment of those convicted of a felony. The Services have therefore developed standards which address the acceptability for Service persons with police records, adverse juvenile adjudications or court convictions. The standards are designed to screen out categories of persons who have probability of either becoming serious disciplinary problems or may not be able to adjust to the disciplinary demands of the Armed Forces. This information collection is needed to identify persons who may be undesirable for military service. The existence of a police record is one of the factors considered in establishing eligibility for enlistment or entry into highly sensitive career fields. Therefore, verification data from the individual and law enforcement agencies must be obtained before enlistment can occur. The form associated with this information collection is DD Form 369, “Police Record Check.” It is used by recruiters to inquire on applicants' backgrounds prior to acceptance to the Armed Forces, when, in the judgment of the recruiter, an applicant may be withholding information of prior offense history.

Affected Public: Individuals or households.

Annual Burden Hours: 78,750 hours.

Number of Respondents: 175,000.

Responses per Respondent: 1.

Annual Responses: 175,000.

Average Burden per Response: 27 minutes.

Frequency: On occasion.

Dated: December 16, 2021.
Kayyonne T. Marston,
Alternate OSD Federal Register Liaison Officer, Department of Defense.

[FR Doc. 2021-27682 Filed 12-21-21; 8:45 am]

BILLING CODE 5001-06-P